ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, March 7-9, 2016 at the times and location listed below.

DATES: The schedule of events is as follows:

Monday, March 7, 2016

10:30-Noon Ad Hoc Committee on Frontier Issues

1:30-2:30 p.m. Technical Programs Committee

2:30-3:00 Ad Hoc Committee on Design Guidance

3:00-4:00 Ad Hoc Committees: Closed to Public

Wednesday, March 9, 2016

11:00-Noon Planning and Evaluation Committee

1:30-3:00 Board Meeting

ADDRESSES: Meetings will be held at the Access Board Conference Room, 1331 F Street NW., Suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, March 9, 2016, the Access Board will consider the following agenda items:

• Approval of draft meeting minutes (vote): November 10, 2015 and January 13, 2016

• Ad Hoc Committee Reports: Design Guidance; Frontier Issues; and Information and Communication Technology

• Technical Programs Committee

• Planning and Evaluation Committee

• Election Assistance Commission Report

• Election of Officers

• Executive Director's Report

• Public Comment (final 15 minutes of the meeting)

Members of the public can provide comments either in-person or over the telephone during the final 15 minutes of the Board meeting on Wednesday, March 9, 2016. Any individual interested in providing comment is asked to pre-register by sending an email to bunales@access-board.gov with the subject line “Access Board meeting—Public Comment” with your name, organization, state, and topic of comment included in the body of your email. All emails to register for public comment must be received by Wednesday, March 2, 2016. Commenters will be called on in the order by which they pre-registered. Due to time constraints, each commenter is limited to two minutes. Commenters on the telephone will be in a listen-only capacity until they are called on. Use the following call-in number: (877) 701-1628; passcode: 9837 8152 and dial in 5 minutes before the meeting begins at 1:30 p.m.

All meetings are accessible to persons with disabilities. An assistive listening system, Communication Access Realtime Translation (CART), and sign language interpreters will be available at the Board meeting and committee meetings.

Persons attending Board meetings are requested to refrain from using perfume, cologne, and other fragrances for the comfort of other participants (see www.access-board.gov/the-board/policies/fragrance-free-environment for more information).

You may view the Wednesday, March 9, 2016 meeting through a live webcast from 1:30 p.m. to 3:00 p.m. at: www.access-board.gov/webcast.

David M. Capozzi,
Executive Director.

[FR Doc. 2016-02787 Filed 2-10-16; 8:45 am]

BILLING CODE 8150-01-P